DEPARTMENT OF ENERGY

Federal Energy Regulatory Commission

[Project No. 13213-000]

Lock 14 Hydro Partners; Notice of Preliminary Permit Application Accepted for Filing and Soliciting Comment, Motions To Intervene, and Competing Applications

July 10, 2008.

On April 28, 2008, Lock 14 Hydro Partners filed an application, pursuant to section 4(f) of the Federal Power Act (FPA), proposing to study the feasibility of the Kentucky Lock and Dam 14 Project to be located at river mile 249 on the Kentucky River at Lock and Dam 14 in Lee County, Kentucky. Existing facilities are owned by the Kentucky River Authority.

The proposed project would utilize the existing Lock and Dam 14 owned by the Kentucky River Authority and would consist of: (1) A powerhouse containing 4 turbine generator units with a total installed capacity of 2.7 MW; (2) a 2,000 foot transmission line; and; (3) appurtenant facilities. The annual production would be 11 GWh which would be sold to a local utility.

Applicant Contact: Mr. David Brown Kinloch, 414 S. Wenzel Street, Louisville, KY 40204, (502) 589-0975.

FERC Contact: Steven Sachs, (202) 502-8666.

Deadline for filing comments, motions to intervene, competing applications (without notices of intent), or notices of intent to file competing applications: 60 days from the issuance of this notice.

Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13213) in the docket number field to access the document. For assistance, call toll-free 1-866-208-3372.

Kimberly D. Bose,
Secretary.

[FR Doc. E8-16296 Filed 7-16-08; 8:45 am]

BILLING CODE 6717-01-P